NUCLEAR REGULATORY COMMISSION

Advisory Committee on Reactor Safeguards Meeting of the ACRS Subcommittee on Power Uprates; Revision to February 23, 2012, ACRS Meeting Federal Register Notice

The Federal Register Notice for the ACRS Subcommittee meeting on Power Uprates, scheduled to be held on February 23, 2012, is being revised to notify the following:

The meeting has been moved to Friday, February 24, 2012, from 8:30 a.m. to 5 p.m.

The notice of this meeting was previously published in the Federal Register on January 30, 2012 [77 FR 4585-4586]. All other items remain the same as previously published.

Further information regarding this meeting can be obtained by contacting Weidong Wang, Designated Federal Official (Telephone: 301-415-6279, Email: Weidong.Wang@nrc.gov) between 7:30 a.m. and 5:15 p.m. (ET).

Dated: February 13, 2012.
Antonio F. Dias,
Technical Advisor, Advisory Committee on Reactor Safeguards.

[FR Doc. 2012-3840 Filed 2-16-12; 8:45 am]

BILLING CODE 7590-01-P